CONSUMER PRODUCT SAFETY COMMISSION

Sunshine Act Meetings

FEDERAL REGISTER CITATION OF PREVIOUS ANNOUNCEMENT: Vol. 79 No. 12, Friday 17, 2014, page 3182.

ANNOUNCED TIME AND DATE OF OPEN MEETING: Thursday, January 23, 2014, 10:00 a.m.-12:00 p.m.

CHANGES TO OPEN MEETING: RESCHEDULED TO: Friday, January 24, 2014, 10:00 a.m.-12:00 p.m.

For a recorded message containing the latest agenda information, call (301) 504-7948.

CONTACT PERSON FOR ADDITIONAL INFORMATION: Todd A. Stevenson, Office of the Secretary, 4330 East West Highway, Bethesda, MD 20814, (301) 504-7923.

Dated: January 23, 2014.
Todd A. Stevenson,
Secretary.

[FR Doc. 2014-01528 Filed 1-23-14; 11:15 am]

BILLING CODE 6355-01-P